DEPARTMENT OF ENERGY

Federal Energy Regulatory Commission

[Friendswood Energy Genco, LLC, EG18-1-000; NTE Carolinas II, LLC, EG18-2-000; Bladen Solar, LLC, EG18-3-000; Bullock Solar, LLC, EG18-4-000; Voyager Wind II, LLC, EG18-5-000; PowerFin ASL 1, LLC, EG18-6-000; PowerFin SolarMundo, LLC, EG18-7-000 ; 54KR 8me LLC, EG18-8-000; Capricorn Bell Interconnection, LLC, EG18-9-000; CXA La Paloma, LLC, EG18-10-000; APV Renaissance Opco, LLC, EG18-11-000; EGP Stillwater Solar PV II, LLC, EG18-12-000; EGP Stillwater Solar, LLC, EG18-13-000]

Notice of Effectiveness of Exempt Wholesale Generator Status

Take notice that during the month of December 2017, the status of the above-captioned entities as Exempt Wholesale Generators became effective by operation of the Commission's regulations. 18 CFR 366.7(a) (2017).

Dated: January 22, 2018.
Nathaniel J. Davis, Sr.,
Deputy Secretary.

[FR Doc. 2018-01526 Filed 1-26-18; 8:45 am]

BILLING CODE 6717-01-P